FEDERAL MARITIME COMMISSION

46 CFR Part 501

[Docket No. 10-04]

RIN 3072-AC37

Agency Reorganization and Delegations of Authority; Correction

AGENCY: Federal Maritime Commission.

ACTION: Correcting amendments.

SUMMARY: The Federal Maritime Commission (FMC or Commission) published in the Federal Register of May 26, 2010, the Final Rule for the reorganization of the Commission. The reference to the Commission's Office of Consumer Affairs and Dispute Resolution Services was inadvertently omitted from Lines of Responsibility and Functions of the Chairman. This document corrects the omission. This correction also adds the legend for the Commission's Organization Chart.

DATES: Effective June 3, 2010.

FOR FURTHER INFORMATION CONTACT: Rebecca A. Fenneman, General Counsel, Federal Maritime Commission, 800 North Capitol Street, NW., Washington, DC 20573, (202) 523-5740, GeneralCounsel@fmc.gov.

SUPPLEMENTARY INFORMATION: The FMC published a Final Rule in the Federal Register on May 26, 2010 (75 FR 29451) concerning the reorganization of the Commission. The reference to the Commission's Office of Consumer Affairs and Dispute Resolution Services was inadvertently omitted from the Lines of Responsibility and Functions of the Chairman in sections 501.4 and 501.5. This document corrects the omission. This correction also adds the legend for the Commission's Organization Chart in Appendix A to Part 501 to assist in the understanding of the chart.

List of Subjects in 46 CFR Part 501

Administrative practice and procedure, Authority delegations, Organization and functions, Seals and insignia.

For the reasons stated in the supplementary information, the Federal Maritime Commission amends 46 CFR Part 501 as follows.

PART 501—THE FEDERAL MARITIME COMMISSION—GENERAL

1. The authority citation for Part 501 continues to read as follows:

Authority: 5 U.S.C. 551-557, 701-706, 2903 and 6304; 31 U.S.C. 3721; 41 U.S.C. 414 and 418; 44 U.S.C. 501-520 and 3501-3520; 46 U.S.C. 301-307, 40101-41309, 42101-42109, 44101-44106; Reorganization Plan No. 7 of 1961, 26 FR 7315, August 12, 1961; Pub. L. 89-56, 70 Stat. 195; 5 CFR Part 2638; Pub. L. 104-320, 110 Stat. 3870.

§ 501.4 [Amended]

2. In § 501.4(a), add “the Office of Consumer Affairs and Dispute Resolution Services” after “the Office of Administrative Law Judges” and before “the Office of Equal Employment Opportunity”.

§ 501.5 [Amended]

3. In § 501.5(a), add “Consumer Affairs and Dispute Resolution Services” after “Administrative Law Judges” and before “and Managing Director”.

4. Revise Appendix A to Part 501 to read as follows:

Appendix A to Part 501—Federal Maritime Commission Organization Chart

Federal Maritime Commission Organization Chart

By the Commission.
Karen V. Gregory,
Secretary.

[FR Doc. 2010-13270 Filed 6-2-10; 8:45 am]

BILLING CODE 6730-01-P